DEPARTMENT OF ENERGY

Federal Energy Regulatory Commission

[Docket No. OR04-2-000]

Enbridge Energy, Limited Partnership; Notice of Settlement Filing

June 4, 2004.

Take notice that on May 20, 2004, Enbridge Energy, Limited Partnership (Enbridge Energy) with the support of the Canadian Association of Petroleum Producers (CAPP), submitted an Offer of Settlement under Rule 602 of the Commission's Rules of Practice and Procedure, 18 CFR 385.602, regarding an incremental surcharge, referred to as the “Facilities Surcharge,” to be included in the tariff rates of Enbridge Energy commencing July 1, 2004.

In accordance with Rule 602(f) of the Commission's Rules of Practice and Procedure, 18 CFR 385.602(f), any person desiring to comment on this Offer of Settlement should file its comments with the Federal Energy Regulatory Commission, 888 First Street, NE., Washington, DC 20426, no later than 20 days after the date of filing of the Offer of Settlement. Reply comments will be due no later than 30 days after the date of the filing of the Offer of Settlement. This filing is available for review at the Commission in the Public Reference Room or may be viewed on the Commission's Web site at http://www.ferc.gov using the “eLibrary” link. Enter the docket number excluding the last three digits in the docket number field to access the document. For Assistance, call (202) 502-8222 or for TTY, (202) 502-8659. Comments, protests and interventions may be filed electronically via the Internet in lieu of paper. The Commission strongly encourages electronic filings. See 18 CFR 385.2001(a)(1)(iii) and the instructions on the Commission's Web site under the “e-Filing” link.

Linda Mitry,
Acting Secretary.

[FR Doc. E4-1306 Filed 6-9-04; 8:45 am]

BILLING CODE 6717-01-P